DEPARTMENT OF TRANSPORTATION

Federal Aviation Administration

DEPARTMENT OF THE INTERIOR

National Park Service

Notice of Meeting of the National Parks Overflights Advisory Group

ACTION: Notice of meeting, correction.

SUMMARY: The National Park Service (NPS) and Federal Aviation Administration (FAA), in accordance with the National Parks Air Tour Management Act of 2000, announce the next meeting of the National Parks Overflights Advisory Group (NPOAG). The meeting will take place October 20, 2003, in Jackson Hole, Wyoming, not October 21 as previously announced. This notice informs the public of the changed date, location, and agenda for the meeting.

DATES: The NPOAG will meet October 20, 2003, at the Wort Hotel, 50 N. Glenwood Street, Jackson, Wyoming 83001 (telephone (307) 733-2190). The meeting will begin at 8 a.m. on Monday, October 20, 2003.

FOR FURTHER INFORMATION CONTACT: Barry Brayer, Manager, Executive Resource Staff, Western Pacific Region, Federal Aviation Administration, 15000 Aviation Blvd., Hawthorne, CA 90250, telephone: (310) 725-3800, or Barry.Brayer@faa.gov, or Howie Thompson, National Park Service, Natural Sounds Program, 12795 W. Alameda Parkway, Denver, CO 80225, telephone: (303) 969-2461, or Howie_Thompson@nps.gov.

SUPPLEMENTARY INFORMATION:

Background

The National Parks Air Tour Management Act of 2000, enacted on April 5, 2000, as Public Law 106-181 (Pub. L. 106-181), required the establishment of a National Parks Overflights Advisory Group within 1 year after its enactment. The NPOAG was to be a balanced group representative of general aviation, commercial air tour operations, environmental concerns, and Indian tribes. The duties of the NPOAG included providing advice, information, and recommendations to the Director, NPS, and to the Administrator, FAA, on the implementation of Public Law 106-181, on quiet aircraft technology, on other measures that might accommodate interests to visitors to national parks, and, at the request of the Director and Administrator, on safety, environmental, and other issues related to commercial air tour operations over national parks or tribal lands.

On March 12, 2001, the FAA and NPS announced the establishment of the NPOAG (48 FR 14429). Current members of the NPOAG are Heidi Williams (general aviation), David Kennedy, Richard Larew, and Alan Stephens (commercial air tour operations), Chip Dennerlein, Charles Maynard, Steve Bosak, and Susan Gunn (environmental interests), and Germaine White and Richard Deertrack (Indian tribes).

The first meeting of the advisory group was held August 28-29, 2001, in Las Vegas, Nevada; the second meeting was held October 4-5, 2002, in Tusayan, Arizona.

Agenda for the October 20, 2003 Meeting

The NPOAG will review the status of the AMTP process to date, the data acquisition and analysis process (Hawaii Volcanoes National Park and Zion studies), receive an update on quiet technology, and discuss the status of interim operating authority for air tour operators. A final agenda will be available the day of the meeting.

Attendance at the Meeting

Although this is not a public meeting, interested persons may attend. Because seating is limited, if you plan to attend, please contact one of the persons listed under FOR FURTHER INFORMATION CONTACT so that meeting space may accommodate your attendance.

Record of the Meeting

If you cannot attend the meeting, a summary record of the meeting will be made available by the Office of Rulemaking (ARM), 800 Independence Ave., SW., Washington, DC 20591. Contact is Linda Williams, (202) 267-9685, or linda.l.williams@faa.gov.

Issued in Washington, DC, on September 26, 2003.
John M. Allen,
Acting Director, Flight Standards Service.

[FR Doc. 03-25052 Filed 10-2-03; 8:45 am]

BILLING CODE 4910-13-P